DEPARTMENT OF DEFENSE

Department of the Air Force

Notice To Extend Public Comment Period for the Revised Draft Environmental Impact Statement for Divert Activities and Exercises, Commonwealth of The Northern Mariana Islands

AGENCY: Department of the Air Force.

ACTION: Notification of extension of public comment period.

SUMMARY: The U.S. Air Force is issuing this notice to advise the public of an extension to the public comment period on the revised draft Environmental Impact Statement. The initial Notice of Availability was published in the Federal Register on October 16, 2015 (Vol. 80, No. 200/Notices/62526), and established a public comment period from October 16, 2015 through November 30, 2015. The Air Force has extended the deadline for submitting public comments to December 14, 2015. All substantive comments received by December 14, 2015 will be addressed fully considered and made a part of Final EIS and administrative record.

Point of Contact: Please direct any written comments or requests for information to Mr. Mark Petersen, 25 E Street, Suite C-130, Joint Base Pearl Harbor-Hickam, HI 96853, ATTN: PACAF Divert Marianas EIS.

Henry Williams,
Acting Air Force Federal Register Liaison Officer, Civ, DAF.

[FR Doc. 2015-30767 Filed 12-4-15; 8:45 am]

BILLING CODE 5001-10-P